DEPARTMENT OF TRANSPORTATION

Federal Railroad Administration

[Docket Number FRA-2018-0049]

Petition for Extension of Waiver of Compliance

Under part 211 of title 49 Code of Federal Regulations (CFR), this document provides the public notice that by letter dated August 1, 2024, BNSF Railway (BNSF) petitioned the Federal Railroad Administration (FRA) for an extension of a waiver of compliance from certain provisions of the Federal railroad safety regulations contained at 49 CFR part 232 (Brake System Safety Standards for Freight and Other Non-Passenger Trains and Equipment; End-of-Train Devices). The relevant Docket Number is FRA-2018-0049.

Specifically, BNSF requests to extend the existing waiver, which provides BNSF certain relief from 49 CFR 232.15, Movement of defective equipment; 49 CFR 232.103(f), General requirements for all train brake systems; and 49 CFR 232.213, Extended haul trains; and a statutory exemption from the requirements of title 49, United States Code section 20303.¹ BNSF stated that the waiver supports BNSF's Brake Health Effectiveness (BHE) program, which “increases the safety and efficiency of BNSF's operations by using thermal detector technology that can gather significantly more data about the health of train brakes than can be collected from the visual inspections required by existing regulations.” The existing relief applies to trains operating on several locations on BNSF's Southern Transcon and Northern Intermodal routes.²

¹ By letter dated August 18, 2021, BNSF submitted a request to expand the scope of the waiver to include coal trains operating over the Pikes Peak Subdivision in Colorado and across the Sand Hills Subdivision in Nebraska. See https://www.regulations.gov/document/FRA-2018-0049-0024. That request is pending.

² These routes are listed in condition 1 of FRA's decision letter dated November 12, 2020. See https://www.regulations.gov/document/FRA-2018-0049-0017.

In support of its request, BNSF explained that data from the BHE program has demonstrated “improved safety performance of brake systems” across the BNSF network. The program has also “increased employee safety by eliminating the potential for injury to inspection personnel due to slips, trips, or falls when performing intermediate brake tests or when setting out or repairing cars outside of mechanical or yard limits.” Additionally, BNSF noted that the BHE program is supported by BNSF's union partners, specifically the Brotherhood of Railway Carmen, who has worked closely with BNSF.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted at www.regulations.gov. Follow the online instructions for submitting comments.

Communications received by November 18, 2024 will be considered by FRA before final action is taken. Comments received after that date will be considered if practicable.

Anyone can search the electronic form of any written communications and comments received into any of the Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-21397 Filed 9-18-24; 8:45 am]

BILLING CODE 4910-06-P